DEPARTMENT OF ENERGY

Federal Energy Regulatory Commission

[Docket No. EL03-41-000]

New York State Electric & Gas Corporation, Complainant, v. Niagara Mohawk Power Corporation, Respondent; Notice of Complaint

January 15, 2003.

Take notice that on January 14, 2003, New York State Electric & Gas Corporation (NYSEG) tendered for filing a complaint alleging that the New York Independent System Operator, Inc. (NYISO) has failed to enforce the expiration date in Attachment L of the NYISO Open Access Transmission Tariff (OATT) with respect to grandfathering for a pre-NYISO transmission service agreement (TSA) between Niagara Mohawk Power Corporation (NMPC) and Allegheny Electric Cooperative, Inc. (AEC). NYSEG requests that the Federal Energy Regulatory Commission (Commission) issue an order that, among other things: (1) Requires the NYISO to provide to NYSEG the billing information needed by NYSEG to bill AEC (or its designated agent) for NYSEG's Transmission Service Charge (TSC) under the NYISO OATT commencing as of July 1, 2001; (2) requires AEC (or the party contractually obligated to pay NYISO OATT charges for AEC) to pay NYSEG's TSC under the NYISO OATT (plus interest) commencing as of July 1, 2001; and (3) to avoid double billing, directs NMPC to make all appropriate refunds to AEC (with interest) for transmission charges collected from AEC under the NMPC service agreement after its June 30, 2001 grandfathering expiration date.

NYSEG states that copies of the filing were served upon the NYISO, NMPC, AEC, and the New York Power Authority.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Comment Date: February 3, 2003.
Magalie R. Salas,
Secretary.

[FR Doc. 03-1818 Filed 1-24-03; 8:45 am]

BILLING CODE 6717-01-P